NUCLEAR REGULATORY COMMISSION

[Docket No. 50-336; NRC-2012-0158]

Dominion Nuclear Connecticut, Inc. Millstone Power Station, Unit 2; Environmental Assessment and Finding of No Significant Impact

The U.S. Nuclear Regulatory Commission (NRC or the Commission) is considering issuance of an exemption from the requirements of Title 10 of the Code of Federal Regulations (10 CFR) Part 50, Appendix R, “Fire Protection Program for Nuclear Power Facilities Operating Prior to January 1, 1979,” for Facility Operating License No. DPR-65 issued to Dominion Nuclear Connecticut, Inc. (DNC or the licensee), for operation of the Millstone Power Station, Unit 2 (MPS2) located in town of Waterford, CT. Therefore, as required by 10 CFR 51.21, the NRC staff performed an environmental assessment. Based on the results of the environmental assessment, the NRC staff is issuing a finding of no significant impact.

Environmental Assessment

Identification of the Proposed Action

DNC proposed that the NRC grant exemptions to certain NRC requirements pertaining to the NRC fire regulations. The proposed action is detailed in the licensee's application dated June 30, 2011, as supplemented by letter dated February 29, 2012. The licensee's application and supplemental submission are accessible electronically from the NRC's Agencywide Documents Access and Management System (ADAMS) under Accession Nos. ML11188A213 and ML12069A016.

Regulatory Issue Summary (RIS) 2006-10, “Regulatory Expectations With Appendix R, Paragraph III.G.2 Operator Manual Actions,” documents the NRC position on the use of operator manual actions (OMAs) as part of a compliance strategy to meet the requirements of 10 CFR part 50, appendix R, Section III.G.2. The NRC requires plants which credit manual actions for 10 CFR part 50, appendix R, Section III.G.2 compliance to obtain NRC approval for the manual actions using the exemption process in accordance with the requirements of 10 CFR 50.12. In response, the licensee proposed this licensing action which would exempt MPS2 from certain requirements of 10 CFR part 50, appendix R, Section III.G.2.

DNC proposed a number of OMAs in lieu of one of the means specified in Section III.G.2 to ensure a train of equipment used for hot shutdown is available when redundant trains are in the same fire area. Therefore, DNC requested exemptions from the requirements of 10 CFR part 50, appendix R, Paragraph III.G.2 for MPS2 to the extent that OMAs are necessary to achieve and maintain hot shutdown for fire areas in which both trains of safe-shutdown cables or equipment are located in the same fire area.

The Need for the Proposed Action

The proposed action is requested to permit the licensee an alternate method from those specified in 10 CFR part 50, to achieve and maintain hot shutdown conditions in the event of a fire that could disable electrical cables and equipment in the fire areas of MPS2 listed in the licensee's request for exemption.

The criteria for granting specific exemptions from 10 CFR part 50 regulations are specified in 10 CFR 50.12. In accordance with 10 CFR 50.12(a)(1), the NRC is authorized to grant an exemption upon determining that the exemption is authorized by law, will not present an undue risk to the public health and safety, and is consistent with the common defense and security.

Environmental Impacts of the Proposed Action

The NRC staff has completed its evaluation of the environmental impact of the proposed action. The NRC staff has concluded that such actions would not adversely affect the environment. The proposed action would not result in an increased radiological hazard. There will be no change to the radioactive effluent releases that effect radiation exposures to plant workers and members of the public. No changes will be made to plant structures or the site property. Therefore, no changes or different types of radiological impacts are expected as a result of the proposed exemption.

The proposed action does not result in changes to land use or water use, or result in changes to the quality or quantity of non-radiological effluents. No changes to the National Pollution Discharge Elimination System permit are needed. No effects on the aquatic or terrestrial habitat in the vicinity or the plant, or to threatened, endangered, or protected species under the Endangered Species Act, or impacts to essential fish habitat covered by the Magnuson-Stevens Fisheries Management Act are expected. There are no impacts to historical and cultural resources. There would be no impact to socioeconomic resources. Therefore, no changes or different types of non-radiological environmental impacts are expected as a result of the proposed exemption.

Accordingly, the NRC staff concludes that there are no significant environmental impacts associated with the proposed action. The details of the staff's safety evaluation will be provided in the exemption, when it is issued.

Environmental Impacts of the Alternatives to the Proposed Action

As alternatives to the proposed action, the NRC staff is considering denial of the proposed action (i.e., the “no-action” alternative) or requiring the licensee to modify the facility to achieve compliance with Appendix R. Denial of the application would result in no change in current environmental impacts. The environmental impacts of the proposed action and the alternative action are similar.

Alternative Use of Resources

The action does not involve the use of any different resources than those previously considered in the U.S. Atomic Energy Commission's 1973 “Final Environmental Statement Related to the Continuation of Construction of Unit 2 and the Operation of Units 1 and 2, Millstone Nuclear Power Station.”

Agencies and Persons Consulted

On May 14, 2012, the NRC staff consulted with the Connecticut State official, Michael Firsick of the Department of Environmental Protection, regarding the environmental impact of the proposed action. Mr. Firsick had no comments.

Finding of No Significant Impact

On the basis of the environmental assessment, the NRC staff concludes that the proposed action will not have a significant effect on the quality of the human environment. Accordingly, the NRC staff has determined not to prepare an environmental impact statement for the proposed action.

For further details with respect to the proposed action, see the licensee's application dated June 30, 2011, as supplemented by letter dated February 29, 2012. The licensee's application and supplemental submission are accessible electronically under ADAMS Accession Nos. ML11188A213 and ML12069A016. Publicly available versions of the documents may be examined, and/or copied for a fee, at the NRC's Public Document Room (PDR), located at One White Flint North, Room O1-F21, 11555 Rockville Pike (first floor), Rockville, Maryland 20852. Publicly available documents created or received at the NRC are accessible electronically through the ADAMS in the NRC Library at http://www.nrc.gov/reading-rm/adams.html. Persons who do not have access to ADAMS or who encounter problems in accessing the documents located in ADAMS should contact the NRC PDR Reference staff by telephone at 1-800-397-4209 or 301-415-4737, or send an email to pdr.resource@nrc.gov.

Dated at Rockville, Maryland, this 27th day of June 2012.
For the Nuclear Regulatory Commission.
James Kim,
Project Manager, Plant Licensing Branch I-1, Division of Operating Reactor Licensing, Office of Nuclear Reactor Regulation.

[FR Doc. 2012-16406 Filed 7-3-12; 8:45 am]

BILLING CODE 7590-01-P